DEPARTMENT OF HEALTH AND HUMAN SERVICES

National Institutes of Health

Public Consultation on Personnel Reliability Issues

AGENCY: National Institutes of Health, HHS.

ACTION: Notice of public consultation meeting on personnel reliability of individuals with access to Select Agents.

SUMMARY: The National Science Advisory Board for Biosecurity (NSABB), an advisory committee of the Federal Government, is hosting a public consultation to engage the scientific community and general public in a discussion of personnel reliability, with a focus on optimal characteristics of individuals with access to Select Agents. This public consultation is an opportunity for members of the scientific community and general public to provide input on these important issues.

Date and Time: The one day public consultation will be held on April 3, 2009 from 8 a.m.—5:15 p.m.

ADDRESSES: The public meeting will be held at the Bethesda Marriott, 5151 Pooks Hill Rd., Bethesda, MD.

FOR FURTHER INFORMATION CONTACT: Ms. Ronna Hill, NIH Office of Biotechnology Activities, by e-mail at hillro@od.nih.gov or by telephone at 301-435-2137. Faxes may be sent to the NIH Office of Biotechnology Activities at 301-496-9839.

SUPPLEMENTARY INFORMATION:

Background

Given heightened concerns about insider threats at organizations that work with highly pathogenic agents, the Federal government has charged the National Science Advisory Board for Biosecurity (NSABB) with recommending a personnel reliability program for individuals with access to Select Agents. A portion of their recommendations will address the measures that institutions should undertake to assess whether individuals are trustworthy and reliable to work with these agents.

The Board appreciates the potential impact that any future requirements for personnel reliability programs would have on institutions and investigators, and thus is hosting a public consultation meeting to engage the scientific community, research organizations, and other stakeholders, including the general public, in a discussion of the personnel reliability attributes being considered by the NSABB.

The meeting will be structured around several discussion panels. The first panel will be background presentations on extant personnel reliability programs and aspects of the current Select Agent Programs that address personnel reliability. Two subsequent panels will explore personnel reliability characteristics under consideration by the NSABB and approaches for assessing them. The personnel characteristics include scientific and professional integrity, compliance with biosafety and biosecurity standards, emotional stability, sound judgment, and freedom from vulnerability to coercion. Each panel will include ample time for in-depth plenary discussion of the issues surrounding each topic. Specific discussion questions will be posted ahead of time on the NSABB Web site at: http://www.biosecurityboard.gov.

The Board is interested in hearing perspectives from such individuals as investigators who work with Select Agents, senior research officials at institutions registered for Select Agent work, security think tank analysts, responsible officials under the Select Agent program, and individuals who promote the responsible conduct of research and have studied issues of research integrity. Others are equally welcomed and encouraged to participate.

The meeting is open to the public and free of charge. Due to limited space, pre-registration is encouraged. To register, please connect to http://www.biosecurityboard.gov. Notice of this meeting will also be published in the Federal Register. Any groups or individuals who cannot attend the meeting are encouraged to submit in advance of the meeting written comments to: nsabb@od.nih.gov Please note that this meeting will not be Web cast. More information about the NSABB is available at http://www.biosecurityboard.gov.

Dated: March 9, 2009.
Amy P. Patterson,
Director, Office of Biotechnology Activities, National Institutes of Health.

[FR Doc. E9-5526 Filed 3-12-09; 8:45 am]

BILLING CODE 4140-01-P